DEPARTMENT OF LABOR

Mine Safety and Health Administration

30 CFR Parts 7 and 75

[Docket No. MSHA-2013-0033]

RIN 1219-AB79

Refuge Alternatives for Underground Coal Mines

AGENCY: Mine Safety and Health Administration, Labor.

ACTION: Request for information; extension of comment period.

SUMMARY: The Mine Safety and Health Administration (MSHA) is extending the comment period on the Agency's Request for Information (RFI) on Refuge Alternatives for Underground Coal Mines to give interested parties additional time to review research reports from the National Institute for Occupational Safety and Health (NIOSH) and other relevant information and provide substantive comments.

DATES: The comment period for the RFI published on August 8, 2013 (78 FR 48593), last extended on June 3, 2014 (79 FR 31895), has been further extended. Comments must be received or postmarked by midnight Eastern Daylight Saving Time on April 2, 2015.

ADDRESSES: Submit comments and informational materials, identified by RIN 1219-AB79 or Docket No. MSHA-2013-0033, by one of the following methods:

• Federal E-Rulemaking Portal: http://www.regulations.gov. Follow the on-line instructions for submitting comments.

• Email: zzMSHA-comments@dol.gov. Include RIN 1219-AB79 or Docket No. MSHA-2013-0033 in the subject line of the message.

• Mail: MSHA, Office of Standards, Regulations, and Variances, 1100 Wilson Boulevard, Room 2350, Arlington, Virginia 22209-3939.

• Fax: 202-693-9441.

• Hand Delivery or Courier: MSHA, 1100 Wilson Boulevard, Room 2350, Arlington, Virginia, between 9:00 a.m. and 5:00 p.m. Monday through Friday, except Federal holidays. Sign in at the receptionist's desk on the 21st floor.

Instructions: All submissions must include RIN 1219-AB79 or Docket No. MSHA-2013-0033. Do not include personal information that you do not want publicly disclosed; MSHA will post all comments without change to http://www.regulations.gov and http://www.msha.gov/currentcomments.asp, including any personal information provided.

Docket: For access to the docket to read comments received, go to http://www.regulations.gov or http://www.msha.gov/currentcomments.asp. To read background documents, go to http://www.regulations.gov. Review the docket in person at MSHA, Office of Standards, Regulations, and Variances, 1100 Wilson Boulevard, Room 2350, Arlington, Virginia, between 9:00 a.m. and 5:00 p.m. Monday through Friday, except Federal Holidays. Sign in at the receptionist's desk on the 21st floor.

Email Notification: To subscribe to receive an email notification when MSHA publishes rules in the Federal Register, and program information, instructions, and policy, go to http://www.msha.gov/subscriptions/subscribe.aspx.

FOR FURTHER INFORMATION CONTACT: Sheila A. McConnell, Acting Director, MSHA, Office of Standards, Regulations, and Variances, at McConnell.Sheila.A@dol.gov (email); 202-693-9440 (voice); or 202-693-9441 (facsimile). These are not toll-free numbers.

SUPPLEMENTARY INFORMATION: On August 8, 2013 (78 FR 48593), MSHA published an RFI on Refuge Alternatives for Underground Coal Mines. The comment period was scheduled to close on October 2, 2014 (79 FR 31895), after three extensions. In response to requests, MSHA is extending the comment period to April 2, 2015, to allow interested parties additional time to review recent studies from the National Institute for Occupational Safety and Health and other information that bear on issues raised in the RFI.

Authority: 30 U.S.C. 811.

Dated: September 25, 2014.
Joseph A. Main,
Assistant Secretary of Labor for Mine Safety and Health.

[FR Doc. 2014-23301 Filed 9-30-14; 8:45 am]

BILLING CODE 4510-43-P